UNIFIED CARRIER REGISTRATION PLAN

Sunshine Act Meeting; Unified Carrier Registration Plan Board of Directors Meeting

TIME AND DATE: October 8, 2020, from Noon to 3:00 p.m., Eastern time.

PLACE: This meeting will be accessible via conference call and screen sharing. Any interested person may call 877-853-5247 (US toll free), 888-788-0099 (US toll free), +1 929-205-6099 (US toll), or +1 669-900-6833 (US toll), Conference ID 994 1238 0722, to participate in the meeting.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, confirm the presence of a quorum, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For discussion and possible action

Agenda will be reviewed and the Board will consider adoption.

Ground Rules

➢ Board actions taken only in designated areas on agenda

IV. Approval of Minutes of the August 13, 2020 UCR Board Meeting—UCR Board Chair

For discussion and possible action

Minutes of the August 13, 2020 UCR Board meeting will be reviewed. The Board will consider action to approve.

V. States Appearing Before the Board Today Due to Non-Compliance With UCR Audit Requirements for 2019—UCR Executive Director

Certain participating states have been advised of their non-compliance for 2019 with the audit requirements contained in Section 19 of the UCR Agreement. This section sets minimum performance standards for completing Focused Anomaly Reviews (FARs) and conducting audit retreats for UCR Tiers 5 and 6. States not in compliance with these requirements have been requested to appear before the UCR Board of Directors to address the following:

1. The reason(s) for the state's non-compliance for 2019

2. Action(s) the state intends to take to achieve compliance and avoid non-compliance going forward

3. Suggestions regarding how UCR can help states avoid non-compliance in the future

VI. Report of FMCSA—FMCSA Representative

The Federal Motor Carrier Safety Administration (FMCSA) will provide a report on any relevant activity.

VII. Discussion and Possible Approval of 2021 UCR Meetings (Board and Subcommittee)—UCR Executive Director

For discussion and possible action

The UCR Executive Director will discuss a proposed meeting schedule for 2021. The Board may take action to adopt a 2021 meeting schedule for the Board and its Subcommittees.

VIII. Discussion and Possible Approval of an Additional December 2020 Education and Training Subcommittee Meeting—UCR Executive Director

For discussion and possible action

The UCR Executive Director will discuss adding another Education and Training Subcommittee Meeting in December of 2020. The Board may take action to adopt an additional meeting in December 2020 for the Education and Training Subcommittee.

IX. Discussion and Possible Approval of Updates and Clean-up of the UCR Handbook—UCR Executive Director

For discussion and possible action

The UCR Executive Director will discuss various proposed updates and clean-up to the UCR Handbook. The Board may take action to update and clean-up the UCR Handbook.

X. Updates Concerning UCR Legislation—UCR Board Chair

The UCR Board Chair will call for any updates regarding UCR legislation since the last Board meeting.

XI. Chief Legal Officer Report—UCR Chief Legal Officer

The UCR Chief Legal Officer will provide an update on the status of the March 2019 data event, the Twelve Percent Logistics litigation, several cease and desist letters sent to third party permitting agents, and other matters.

XII. Subcommittee Reports

Audit Subcommittee—UCR Audit Subcommittee Chair

A. Requirement to Complete 2019 Audits by December 31, 2020—UCR Audit Subcommittee Chair

The UCR Audit Subcommittee Chair will remind state auditors to monitor FARs and the MCS-150 audit list for recently assigned audits. September 30, 2020 was the last day for new FARs and MCS-150 audits to have been assigned. All assignments must be completed by December 31, 2020.

B. Update on the 2020 New Entrant and Unregistered Motor Carrier Solicitation Campaigns—Seikosoft

Seikosoft will provide an updated report on new entrant motor carrier campaigns managed by the National Registration System (NRS), new entrant motor carrier campaigns managed by the states, unregistered motor carrier campaigns managed by the NRS, and unregistered motor carrier campaigns managed by the states.

C. Update on the Non-Universe Motor Carrier Solicitation Campaigns—Seikosoft

Seikosoft will provide an updated report on the solicitation campaign targeting motor carriers identified through roadside inspections as operating in interstate commerce but identified in MCMIS as either intrastate or inactive.

D. Unregistered Carrier List Potentially Containing Private Passenger and Intrastate Motor Carriers—Seikosoft/UCR Audit Subcommittee Chair

Seikosoft will provide an update on the potential for the Unregistered List to contain private passenger and intrastate motor carriers that changed carrier status to interstate during 2020.

E. Unregistered Brokers—UCR Audit Subcommittee Chair

The UCR Audit Subcommittee Chair will discuss the challenges that unregistered brokers present to UCR enforcement. The discussion will highlight jurisdiction and other challenges, and may also include dialogue regarding successes and ideas for addressing broker registration enforcement.

F. Update on the Audit of the Depository—UCR Depository Manager

The UCR Depository Manager will provide an update on the progress achieved on the 2019 Depository audit and plans for addressing open items through completion.

Finance Subcommittee—UCR Finance Subcommittee Chair

A. Review UCR Bank Balance Summary Report—UCR Finance Subcommittee Chair/UCR Depository Manager

The UCR Finance Subcommittee Chair and the UCR Depository Manager will review the new UCR Bank Balance Summary Report and lead a discussion regarding its purpose and usefulness.

B. Discuss the Proposed Schedule for Distributions from the Depository for the 2021 Registration Year—UCR Depository Manager

The UCR Depository Manager will discuss the proposed schedule for the Depository to make distributions to states that have not yet achieved their revenue entitlements during 2021.

C. Certificates of Deposit—UCR Depository Manager

For discussion and possible action

The UCR Depository Manager will provide a review of the 2019 Savings Account held at the Bank of North Dakota and discuss the benefits of investing those funds in short-term certificates of deposit, not to exceed six months in duration. The Board may take action to adopt the recommended CD investment proposal.

D. Review 2020 Administrative Expenses Through September 30, 2020—UCR Depository Manager

The UCR Depository Manager will present the administrative costs incurred for the period of January 1, 2020 through September 30, 2020, compared to the budget for the same time-period, and discuss all significant variances.

E. Status of 2019 Registration Year Fee Collections and Compliance Percentages—UCR Depository Manager

The UCR Depository Manager will provide a “pre-final” review on the results of collections and registration compliance rates for the 2019 registration year.

Education and Training Subcommittee—UCR Education and Training Subcommittee Chair

A. Update on Basic Audit Training Module and Flow Chart/Decision Tree—UCR Education and Training Subcommittee Chair

The UCR Education and Training Subcommittee Chair will provide an update on the development of the Basic Audit training module and Flow Chart/Decision Tree.

B. Discuss the Approval of Funding for the Basic Audit Training Module and Flow Chart/Decision Tree—UCR Education and Training Subcommittee Chair

For discussion and possible action

The UCR Education and Training Subcommittee Chair will provide information concerning the cost for the Basic Audit training module and Flow Chart/Decision Tree. The Board may take action to approve the cost of the Basic Audit Training Module and Flow Chart/Decision Tree.

XIII. Contractor Reports—UCR Executive Director

• UCR Executive Director

The UCR Executive Director will provide a report covering recent activity for the UCR Plan.

• DSL Transportation Services, Inc.

DSL Transportation Services, Inc. will report on the latest data from the FARs program, discuss motor carrier inspection results, and other matters.

• Seikosoft

Seikosoft will provide an update on recent/new activity related to the NRS.

• UCR Administrator Report (Kellen)—UCR Operations and Depository Managers

The UCR Administrator will provide its management report covering recent activity for the Depository, Operations, and Communications.

XIV. Other Business—UCR Board Chair

The UCR Board Chair will call for any business, old or new, from the floor.

XV. Adjournment—UCR Board Chair

The UCR Board Chair will adjourn the meeting.

This agenda will be available no later than 5:00 p.m. Eastern time, September 30, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-21984 Filed 9-30-20; 4:15 pm]

BILLING CODE 4910-YL-P